DEPARTMENT OF HOUSING AND URBAN DEVELOPMENT

[Docket No. FR-4565-N-10]

Notice of Proposed Information Collection: Comment Request; Housing Development Grant Program Project Settlement Procedures

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: May 30, 2000.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, D.C. 20410, telephone (202) 708-5221 (this is not a toll-free number) for copies of the proposed forms and other available information.

FOR FURTHER INFORMATION CONTACT: Willie Spearmon, Multifamily Housing, Office of Business Products, Department of Housing and Urban Development, 451 7th Street, SW., Washington, DC 20410, telephone (202) 708-3000, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information, (3) Enhance the quality, utility, and clarity of the information to be collected; and (4) Minimize the burden of the collection of information on those who are to respond; including the use of appropriate automated collection techniques or other forms of information technology, e.g., permitted electronic submission of responses.

This Notice also lists the following information:

Title of Proposal: Housing Development Grant Program Project Settlement Procedures.

OMB Control Number, if applicable: 2502-0382.

Description of the need for the information and proposed use: The collection of project settlement information is necessary to implement the program regulation at 24 CFR Part 850—Housing Development Grant. This section of the regulation requires, upon construction completion, that the program respondents account for funds expended. Such accounting is provided through the project settlement process.

Agency form numbers, if applicable: HUD-90024, HUD-90025, HUD-90026, HUD-90028, HUD-90028, HUD-90031.

Estimation of the total numbers of hours needed to prepare the information collection including number of respondents, frequency of response, and hours of response: The estimated number of respondents are 15, the frequency of responses is one, the annual responses are 15, the estimated burden for each form is HUD-90024 (.50 hours per response); HUD-90025 (6 hours per response); HUD-90026 (.50 hours per response); HUD-90027 (.50 hours per response); HUD-90028 (.50 hours per response); and HUD-90031 (8 hours per response); and the annual burden hours requested is 240 per application package.

Status of the proposed information collection: Reinstatement without change.

Authority: The Paperwork Reduction Act of 1995, 44 U.S.C., Chapter 35, as amended.

Dated: March 24, 2000.
William C. Apgar,
Assistant Secretary for Housing-Federal Housing Commissioner.

[FR Doc. 00-7947 Filed 3-30-00; 8:45 am]

BILLING CODE 4210-27-M